DEPARTMENT OF ENERGY

Federal Energy Regulatory Commission

Combined Notice of Filings #1

Take notice that the Commission received the following electric corporate filings:

Docket Numbers: EC19-103-000.

Applicants: Newmount Nevada Energy Investment LLC.

Description: Application for Authorization Under Section 203 of the Federal Power Act, et al. of Newmount Nevada Energy Investment LLC.

Filed Date: 6/18/19.

Accession Number: 20190618-5136.

Comments Due: 5 p.m. ET 7/9/19.

Take notice that the Commission received the following exempt wholesale generator filings:

Docket Numbers: EG19-135-000.

Applicants: Pretty Prairie Wind, LLC.

Description: Notice of Self-Certification of Exempt Wholesale Generator Status of Pretty Prairie Wind, LLC.

Filed Date: 6/18/19.

Accession Number: 20190618-5098.

Comments Due: 5 p.m. ET 7/9/19.

Docket Numbers: EG19-136-000.

Applicants: Crowned Ridge Wind, LLC.

Description: Notice of Self-Certification of Exempt Wholesale Generator Status of Crowned Ridge Wind, LLC.

Filed Date: 6/19/19.

Accession Number: 20190619-5091.

Comments Due: 5 p.m. ET 7/10/19.

Docket Numbers: EG19-137-000.

Applicants: Crowned Ridge Wind II, LLC.

Description: Notice of Self-Certification of Exempt Wholesale Generator Status of Crowned Ridge Wind II, LLC.

Filed Date: 6/19/19.

Accession Number: 20190619-5092.

Comments Due: 5 p.m. ET 7/10/19.

Take notice that the Commission received the following electric rate filings:

Docket Numbers: ER18-646-003.

Applicants: Chambersburg Energy, LLC.

Description: Compliance filing: Reactive Service Rate Schedule Compliance Filings to be effective 12/13/2017.

Filed Date: 6/19/19.

Accession Number: 20190619-5126.

Comments Due: 5 p.m. ET 7/10/19.

Docket Numbers: ER18-647-003.

Applicants: Gans Energy, LLC.

Description: Compliance filing: Reactive Service Rate Schedule Compliance Filings to be effective 12/13/2017.

Filed Date: 6/19/19.

Accession Number: 20190619-5127.

Comments Due: 5 p.m. ET 7/10/19.

Docket Numbers: ER18-648-003.

Applicants: Springdale Energy, LLC.

Description: Compliance filing: Reactive Service Rate Schedule Compliance Filings to be effective 12/13/2017.

Filed Date: 6/19/19.

Accession Number: 20190619-5129.

Comments Due: 5 p.m. ET 7/10/19.

Docket Numbers: ER18-1384-003.

Applicants: Buchanan Generation, LLC.

Description: Compliance filing: Reactive Service Rate Schedule Compliance Filings to be effective 3/1/2018.

Filed Date: 6/19/19.

Accession Number: 20190619-5130.

Comments Due: 5 p.m. ET 7/10/19.

Docket Numbers: ER19-38-001.

Applicants: Fairless Energy, L.L.C.

Description: Compliance filing: Motion for Interim Implementation of Settlement Rates EL19-15 and ER19-38 to be effective 7/1/2019.

Filed Date: 6/19/19.

Accession Number: 20190619-5115.

Comments Due: 5 p.m. ET 7/10/19.

Docket Numbers: ER19-1496-001.

Applicants: AEP Appalachian Transmission Company, Inc., AEP Indiana Michigan Transmission Company, Inc., AEP Kentucky Transmission Company, Inc., AEP Ohio Transmission Company, Inc., AEP West Virginia Transmission Company, Inc., PJM Interconnection, L.L.C.

Description: Compliance filing: AEP submits filing in compliance with the Commission's 5/24/2019 Order to be effective 10/22/2018.

Filed Date: 6/18/19.

Accession Number: 20190618-5078.

Comments Due: 5 p.m. ET 7/9/19.

Docket Numbers: ER19-1744-001.

Applicants: Southern California Edison Company.

Description: Tariff Amendment: Corrections to Recollation Filing Under ER19-1744 to be effective 5/1/2019.

Filed Date: 6/19/19.

Accession Number: 20190619-5073.

Comments Due: 5 p.m. ET 7/10/19.

Docket Numbers: ER19-1752-001.

Applicants: Southern California Edison Company.

Description: Tariff Amendment: Corrections to Recollation Filing Under ER19-1752 to be effective 5/1/2019.

Filed Date: 6/19/19.

Accession Number: 20190619-5074.

Comments Due: 5 p.m. ET 7/10/19.

Docket Numbers: ER19-1757-001.

Applicants: Southern California Edison Company.

Description: Tariff Amendment: Corrections to Recollation Filing Under ER19-1757 to be effective 5/1/2019.

Filed Date: 6/19/19.

Accession Number: 20190619-5075.

Comments Due: 5 p.m. ET 7/10/19.

Docket Numbers: ER19-2198-000.

Applicants: Walnut Creek Energy, LLC.

Description: § 205(d) Rate Filing: Revisions to Market-Based Rate Tariff and Requests for Waivers to be effective 6/19/2019.

Filed Date: 6/18/19.

Accession Number: 20190618-5103.

Comments Due: 5 p.m. ET 7/9/19.

Docket Numbers: ER19-2199-000.

Applicants: kWantix Trading Fund I, LP.

Description: Baseline eTariff Filing: Market-Based Rate Tariff Application to be effective 7/1/2019.

Filed Date: 6/18/19.

Accession Number: 20190618-5131.

Comments Due: 5 p.m. ET 7/9/19.

Docket Numbers: ER19-2200-000.

Applicants: Southwest Power Pool, Inc.

Description: § 205(d) Rate Filing: 1895R9 Westar Energy, Inc.—Wathena NITSA NOA to be effective 9/1/2019.

Filed Date: 6/19/19.

Accession Number: 20190619-5028.

Comments Due: 5 p.m. ET 7/10/19.

Docket Numbers: ER19-2201-000.

Applicants: Southwest Power Pool, Inc.

Description: § 205(d) Rate Filing: 1978R8 Westar Energy, Inc.—Toronto NITSA NOA to be effective 9/1/2019.

Filed Date: 6/19/19.

Accession Number: 20190619-5030.

Comments Due: 5 p.m. ET 7/10/19.

Docket Numbers: ER19-2202-000.

Applicants: Kansas City Power & Light Company.

Description: Tariff Cancellation: Notice of Cancellation of Rate Schedule No 130 Kansas City Power & Light Company to be effective 7/31/2018.

Filed Date: 6/19/19.

Accession Number: 20190619-5044.

Comments Due: 5 p.m. ET 7/10/19.

Docket Numbers: ER19-2203-000.

Applicants: Southwest Power Pool, Inc.

Description: § 205(d) Rate Filing: 2045R8 Westar Energy, Inc.—Morrill NITSA NOA to be effective 9/1/2019.

Filed Date: 6/19/19.

Accession Number: 20190619-5045.

Comments Due: 5 p.m. ET 7/10/19.

Docket Numbers: ER19-2204-000.

Applicants: Southwest Power Pool, Inc.

Description: § 205(d) Rate Filing: 2066R8 Westar Energy, Inc.—Muscotah NITSA NOA to be effective 9/1/2019.

Filed Date: 6/19/19.

Accession Number: 20190619-5046.

Comments Due: 5 p.m. ET 7/10/19.

Docket Numbers: ER19-2205-000.

Applicants: Tampa Electric Company.

Description: Tariff Cancellation: Cancellation of All Requirements Tariff to be effective 6/20/2019.

Filed Date: 6/19/19.

Accession Number: 20190619-5049.

Comments Due: 5 p.m. ET 7/10/19.

Docket Numbers: ER19-2206-000.

Applicants: Southwest Power Pool, Inc.

Description: § 205(d) Rate Filing: 2491R7 Westar Energy, Inc.—Scranton NITSA NOA to be effective 9/1/2019.

Filed Date: 6/19/19.

Accession Number: 20190619-5057.

Comments Due: 5 p.m. ET 7/10/19.

Docket Numbers: ER19-2207-000.

Applicants: Duke Energy Florida, LLC.

Description: Notice of Cancellation of 15 Conforming Jurisdictional Agreements of Duke Energy Florida, LLC.

Filed Date: 6/19/19.

Accession Number: 20190619-5114.

Comments Due: 5 p.m. ET 7/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2019.
Nathaniel J. Davis, Sr.,
Deputy Secretary.

[FR Doc. 2019-13715 Filed 6-26-19; 8:45 am]

BILLING CODE 6717-01-P